INTERNATIONAL TRADE COMMISSION

[Investigation No. 332-532; Investigation No. 332-536]

The Information Technology Agreement: Advice and Information on the Proposed Expansion: Part 1; The Information Technology Agreement: Advice and Information on the Proposed Expansion: Part 2

AGENCY: United States International Trade Commission.

ACTION: Institution of investigations, opportunity to provide written submissions, and scheduling of public hearing in investigation No. 332-536.

SUMMARY: Following receipt of a request on July 31, 2012, from the United States Trade Representative (USTR) under section 115 of the Uruguay Round Agreements Act (19 U.S.C. 3524) and section 332(g) of the Tariff Act of 1930 (19 U.S.C. 1332(g)), the U.S. International Trade Commission (Commission) instituted two investigations for the purpose of providing the requested advice and information: investigation No. 332-532, The Information Technology Agreement: Advice and Information on the Proposed Expansion: Part 1, and investigation No. 332-536, The Information Technology Agreement: Advice and Information on the Proposed Expansion: Part 2.

DATES:

Investigation No. 332-532

September 6, 2012: Deadline for filing written submissions from interested parties.

October 24, 2012: Transmittal of Commission's report to USTR.

Investigation No. 332-536

October 31, 2012: Deadline for filing requests to appear at the public hearing.

November 2, 2012: Deadline for filing pre-hearing briefs and statements.

November 8, 2012: Public hearing.

November 20, 2012: Deadline for filing post-hearing briefs and written submissions from interested parties.

February 15, 2013: Transmittal of the Commission's report to USTR.

ADDRESSES: All Commission offices, including the Commission's hearing rooms, are located in the United States International Trade Commission Building, 500 E Street SW., Washington, DC. All written submissions should be addressed to the Secretary, United States International Trade Commission, 500 E Street SW., Washington, DC 20436. The public record for these investigations may be viewed on the Commission's electronic docket (EDIS) at https://edis.usitc.gov/edis3-internal/app.

FOR FURTHER INFORMATION CONTACT: Project Leader Shannon Gaffney (202-205-3316 or Shannon.Gaffney@usitc.gov) or Deputy Project Leaders Heidi Colby-Oizumi (202-205-3391 or Heidi.Colby@usitc.gov) or Jeanette Leary (202-205-2043 or Jeanette.Leary@usitc.gov) for information specific to these investigations. For information on the legal aspect of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his letter the USTR said that a number of participants in the Information Technology Agreement (ITA) have prepared a draft list of products that could be considered for addition to ITA product coverage, and that a more formal negotiating process is expected to begin in September 2012. The USTR furnished the Commission with a list of the products, which can be found at http://www.usitc.gov/research_and_analysis/ongoing/documents/Request_letter_332-532.pdf or http://www.usitc.gov/research_and_analysis/ongoing/documents/Request_letter_332-536.pdf. Section 115 of the URAA requires the President to obtain the advice of the Commission in connection with any modifications in duty that are subject to the consultation and layover requirements of section 115.

The USTR has asked the Commission to provide advice and information in two reports and the Commission has instituted two separate investigations for the purpose of preparing these reports.

Investigation No. 332-532, The Information Technology Agreement: Advice and Information on the Proposed Expansion: Part 1

In its first report (investigation No. 332-352), the Commission will, as requested by the USTR and to the extent practicable, based on available information and information furnished by interested parties in response to this notice, (1) indicate both the information and communications technology (ICT) purposes and non-ICT purposes for which each product on the list is used, and (2) identify the products that U.S. industry and other interested parties view as import-sensitive. The Commission will provide this report to the USTR by October 24, 2012.

Investigation No. 332-536, The Information Technology Agreement: Advice and Information on the Proposed Expansion: Part 2

In its second report (investigation No. 332-356), the Commission will, as requested by the USTR and to the extent practicable, identify for each of the listed products: (1) Tariffs in major markets; (2) major producing countries; (3) leading U.S. export markets; and (4) leading sources of U.S. imports. The Commission will also provide an overview of selected key subsectors, and to the extent practicable, examine benefits to the U.S. industry of ITA expansion, including information on increased market access and export opportunities for products in these subsectors. The Commission will provide this report to the USTR by February 15, 2013.

Public Hearing: A public hearing in connection with investigation No. 332-536 will be held at the U.S. International Trade Commission Building, 500 E Street SW., Washington, DC, beginning at 9:30 a.m. on November 8, 2012. Requests to appear at the public hearing should be filed with the Secretary no later than 5:15 p.m., October 31, 2012. All pre-hearing briefs and statements should be filed no later than 5:15 p.m. November 2, 2012; and all post-hearing briefs and statements should be filed no later than 5:15 p.m. November 20, 2012. All such briefs and statements should otherwise comply with the filing requirements in the “Submissions” section below. In the event that, as of the close of business on October 31, 2012, no witnesses are scheduled to appear at the hearing, the hearing will be canceled. Any person interested in attending the hearing as an observer or nonparticipant should contact the Office of the Secretary at 202-205-2000 after October 31, 2012, for information concerning whether the hearing will be held.

Written Submissions: Interested parties are invited to file written submissions concerning both investigations. For investigation No. 332-532, interested parties are asked to provide information on (1) the ICT and non-ICT purposes for which products on the attached list are used, and (2) indicate which products they view as import-sensitive. Written submissions relating to investigation No. 332-532 should be received not later than 5:15 p.m., September 6, 2012. Written submission relating to investigation No. 332-536 should be received not later than 5:15 p.m., November 20, 2012.

Written submissions filed in connection with the respective investigations should focus on providing information of the kind described above that is relevant to the respective investigations and reports. All written submissions should be addressed to the Secretary. All written submissions must conform to the provisions of section 201.8 of the Commission's Rules of Practice and Procedure (19 CFR 201.8). Section 201.8 and the Commission's Handbook on Filing Procedures require that interested parties file documents electronically on or before the filing deadline and submit eight (8) true paper copies by 12:00 noon eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In his request letter the USTR said that it is the intent of his office to make the Commission's reports available to the public in their entirety, and asked that the Commission not include any confidential business information. Accordingly, any confidential business information received by the Commission in these investigations and used in preparing the respective reports will not be included in the reports that the Commission sends to the USTR and will not be published in a manner that would reveal the operations of the firm supplying the information.

Issued: August 8, 2012.
By order of the Commission.
Lisa R. Barton,
Acting Secretary to the Commission.

[FR Doc. 2012-19791 Filed 8-10-12; 8:45 am]

BILLING CODE 7020-02-P